ENVIRONMENTAL PROTECTION AGENCY

40 CFR Part 52

[EPA-R01-OAR-2023-0576; FRL-11679-01-R1]

Air Plan Approval; New Hampshire; Single Source Order for PAK Solutions

AGENCY: Environmental Protection Agency (EPA).

ACTION: Proposed rule.

SUMMARY: The Environmental Protection Agency (EPA) is proposing to approve a State Implementation Plan (SIP) revision submitted by the State of New Hampshire. This revision proposes to approve reasonable available control technology (RACT) requirements for PAK Solutions, LLC, located in Lancaster, New Hampshire. This action is being taken under the Clean Air Act.

DATES: Written comments must be received on or before February 22, 2024.

ADDRESSES: Submit your comments, identified by Docket ID No. EPA-R01-OAR-2023-0576 at https://www.regulations.gov, or via email to Patrick Lillis at: lillis.patrick@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the For Further Information Contact section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Patrick Lillis, Air Quality Branch (AQB), Air and Radiation Division (ARD) (Mail Code 5-MD), U.S. Environmental Protection Agency, Region 1, 5 Post Office Square, Suite 100, Boston, Massachusetts, 02109-3912; (617) 918-1067; lillis.patrick@epa.gov.

SUPPLEMENTARY INFORMATION: Throughout this document whenever “we,” “us,” or “our” is used, we mean EPA.

Table of Contents

I. Background and Purpose

II. Proposed Action

III. Incorporation by Reference

IV. Statutory and Executive Order Reviews

I. Background and Purpose

On December 14, 2022, the New Hampshire Air Resources Division (ARD) submitted a revision to its State Implementation Plan (SIP). The revision consists of an order establishing reasonably available control technology (RACT) requirements for PAK Solutions, LLC, located in Lancaster, New Hampshire. The RACT requirements are intended to limit emissions of volatile organic chemicals (VOCs) from the facility.

PAK Solutions, LLC (PAK) conducts commercial printing operations on a variety of plastic and film substrates with VOCs and solvent-containing inks. PAK owns and operates three printing presses that coat a variety of plastic and film substrates at its facility located on 16 Page Hill Road in Lancaster, New Hampshire. PAK operates a Ship & Shore Regenerative Thermal Oxidizer (RTO) to control VOC emissions from three printing presses. On August 24, 2022, PAK submitted an application for a RACT Order (Order) that would allow the company to generate and use Discrete Emissions Reductions (DERs) in order to comply with the VOC reduction requirements during periods when the RTO is shut down due to maintenance or malfunction.

RACT Order RO-0007 issued on December 14, 2022, by the New Hampshire DES requires PAK Solutions to comply with the VOC control standards specified in Env-A 1215 Rotogravure and Flexographic Printing. PAK Solutions shall conduct monitoring and testing activities of the RTO as well as operate and maintain equipment to continuously monitor the temperature of the combustion chamber of the RTO. This Order also outlines the consistent maintenance of the RTO based on the manufacture's recommendations. For times that the capture and control system is unable to meet the 60% capture and 90% reduction requirement specified in Env-A 1215.03(b) and Env-A 1215.04(b)(3) due to a malfunction or during routine maintenance of the RTO, PAK shall be allowed to use DERs in accordance with RACT Order RO-0007. This is for the purpose of complying with the VOC RACT requirements. According to the instructions of RACT Order RO-0007, PAK shall be allowed to generate DERs for VOC emission reductions that exceed the reductions specified in this Order and be allowed to use these DERs for RACT compliance. PAK is also allowed to sell DERs to other entities within the State of New Hampshire. PAK Solutions will also maintain sufficient recordkeeping and timely annual reporting.

Regarding reporting and recordkeeping requirements, PAK is required to submit an annual report to NHDES on the projected use of credits (DERs) for the upcoming calendar year by November 30th. The requirements for this report are outlined in Env-A 3104.08, Notice of Intent and Use of DERs. PAK is also required to submit an annual report by April 15th to NHDES on the balance of credits (DERs) for the previous calendar year. The requirements for this report are outlined in Env-A 3103.08, Notice and Certification of Generation and Env-A 3104.09, Notice and Certification of Use. Records are required to be maintained on site and submitted upon request for control device monitoring and maintenance. PAK Solutions is also subject to the applicable recordkeeping and reporting requirements of SIP-approved Env-A 900 Owner or Operator Recordkeeping and Reporting Obligations, which requires annual reporting to the state of emissions data and other information relating to compliance. Any additional recordkeeping requirements are outlined within Table 5 in the state's permit to operate. Any additional reporting requirements are outlined within Table 6 in the state's permit to operate.

EPA has reviewed RACT Order RO-0007 issued by the New Hampshire DES to PAK Solutions of Lancaster dated December 14, 2022. EPA is proposing an approval of this RACT Order into the New Hampshire SIP.

II. Proposed Action

EPA is proposing to approve RACT Order RO-0007 issued by the New Hampshire DES to PAK Solutions of Lancaster on December 14, 2022, as a revision to the New Hampshire SIP. EPA is soliciting public comments on the issues discussed in this notice or on other relevant matters. These comments will be considered before taking final action. Interested parties may participate in the Federal rulemaking procedure by submitting written comments to this proposed rule by following the instructions listed in the ADDRESSES section of this Federal Register.

III. Incorporation by Reference

In this rule, the EPA is proposing to include in a final EPA rule regulatory text that includes incorporation by reference. In accordance with requirements of 1 CFR 51.5, the EPA is proposing to incorporate by reference RACT Order RO-0007 dated December 14, 2022, issued by the New Hampshire DES to Pak Solutions of Lancaster, as discussed in Section I of this preamble. The EPA has made, and will continue to make, these documents generally available through https://www.regulations.gov and at the EPA Region 1 Office (please contact the person identified in the FOR FURTHER INFORMATION CONTACT section of this preamble for more information).

IV. Statutory and Executive Order Reviews

Under the Clean Air Act, the Administrator is required to approve a SIP submission that complies with the provisions of the Act and applicable Federal regulations. See 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The New Hampshire DES did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects in 40 CFR Part 52

Environmental protection, Air pollution control, Incorporation by reference, Ozone, Reporting and recordkeeping requirements, Volatile organic compounds.

Dated: January 18, 2024.
David Cash,
Regional Administrator, EPA Region 1.

[FR Doc. 2024-01228 Filed 1-22-24; 8:45 am]

BILLING CODE 6560-50-P